PAROLE COMMISSION

Public Announcement; Pursuant to the Government in the Sunshine Act (Public Law 94-409) (5 U.S.C. Section 552b)

Agency Holding Meeting: Department of Justice, United States Parole Commission.

Time and Date: 9:30 a.m., Wednesday, December 8, 2004.

Place: 5550 Friendship Boulevard, 4th Floor, Chevy Chase, Maryland 20815.

Status: Open.

Matters to be Considered: The following matters have been placed on the agenda for the open Parole Commission meeting: (1) Approval of minutes from a previous Commission meeting; (2) reports from the Chairman, Commissioners, Chief of Staff, and Commission sections; and (3) a proposal to extend the video conference procedure to institutional revocation hearings.

Agency Contact: Thomas W. Hutchison, Chief of Staff, United States Parole Commission, (301) 492-5990.

Dated: December 1, 2004.
Rockne Chickinell,
General Counsel, United States Parole Commission.

[FR Doc. 04-26909 Filed 12-3-04; 10:03 am]

BILLING CODE 4410-01-M